DEPARTMENT OF LABOR

[TA-W-61,360]

Employment and Training Administration: Bayer Clothing Group Inc., Sales and Merchandising Office, New York, NY; Notice of Termination of Investigation

Pursuant to Section 221 of the Trade Act of 1974, as amended, an investigation was initiated on April 23, 2007 in response to a petition filed by a company official on behalf of workers at Bayer Clothing Group Inc., Sales and Merchandising Office, New York, New York.

The petitioning group of workers is covered by an active amended certification (TA-W-59,299A) which expires on May 31, 2008. Consequently, further investigation in this case would serve no purpose, and the investigation has been terminated.

Signed at Washington, DC, this 8th day of May, 2007.
Linda G. Poole,
Certifying Officer, Division of Trade Adjustment Assistance.

[FR Doc. E7-9109 Filed 5-10-07; 8:45 am]

BILLING CODE 4510-FN-P